ENVIRONMENTAL PROTECTION AGENCY

[Regional Docket Nos. II-2000-08, -09, II-2001-01, -03, -04; FRL-7439-6]

Clean Air Act Operating Permit Program; Petitions for Objection to State Operating Permits for Columbia University; Starrett City Power Plant; Elmhurst Hospital; Maimonides Medical Center; and the Bergen Point Sewage Treatment Plant

AGENCY: Environmental Protection Agency (EPA).

ACTION: Notice of final orders on petitions to object to five State operating permits.

SUMMARY: This document announces that the EPA Administrator has responded to five citizen petitions asking EPA to object to operating permits issued to five facilities by the New York State Department of Environmental Conservation (NYSDEC). Specifically, the Administrator has partially granted and partially denied each of the petitions submitted by the New York Public Interest Research Group (NYPIRG) to object to each of the State operating permits issued to the following facilities: Columbia University in New York, NY; Starrett City Power Plant in Brooklyn, NY; Elmhurst Hospital in Elmhurst, NY; Maimonides Medical Center in Brooklyn, NY; and Bergen Point Sewage Treatment Plant in West Babylon, NY.

Pursuant to section 505(b)(2) of the Clean Air Act (Act), Petitioner may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA, Region 2, 290 Broadway, New York, New York 10007-1866. If you wish to examine these documents, you should make an appointment at least 24 hours before visiting day. Additionally, the final orders for Columbia University, Starrett City and Elmhurst Hospital are available electronically at: http://www.epa.gov/region07/programs/artd/air/title5/petitiondb/petitiondb2000.htm, and the final orders for Maimonides Medical Center and Bergen Point Sewage Treatment Plant are available electronically at: http://www.epa.gov/region07/programs/artd/air/title5/petitiondb/petitiondb2001.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. Columbia University

On October 2, 2000, the EPA received a petition from NYPIRG, requesting that EPA object to the issuance of the title V operating permit to Columbia University. The petition raises issues regarding the permit application, the permit issuance process, and the permit itself. NYPIRG asserts that (1) NYSDEC violated the public participation requirements of 40 CFR 70.7(h) by inappropriately denying NYPIRG's request for a public hearing; (2) the permit is based on an incomplete permit application in violation of 40 CFR 70.5(c); (3) the permit lacks an adequate statement of basis as required by 40 CFR 70.7(a)(5); (4) the permit distorts the annual compliance certification requirement of CAA section 114(a)(3) and 40 CFR 70.6(c)(5); (5) the permit does not assure compliance with all applicable requirements as mandated by 40 CFR 70.1(b) and 70.6(a)(1) because it illegally sanctions the systematic violation of applicable requirements during startup/shutdown, malfunction, maintenance, and upset conditions; (6) the permit does not require prompt reporting of all deviations from permit requirements as mandated by 40 CFR 70.6(a)(3)(iii)(B); and (7) the permit does not assure compliance with all applicable requirements as mandated by 40 CFR 70.1(b) and 70.6(a)(1) because many individual permit conditions lack adequate monitoring and are not practically enforceable.

On December 16, 2002, the Administrator issued an order partially granting and partially denying the petition on Columbia University. The order explains the reasons behind EPA's conclusion that the NYSDEC must reopen the permit to: (1) Enforceably prohibit operation of all four boilers simultaneously, (2) specify that continuous opacity monitors are used, (3) incorporate monitoring for fuel sulfur content, (4) incorporate sulfur requirements of the New Source Performance Standards, (5) include monitoring to support the annual and hourly NOX limits, and (6) incorporate operational restrictions to limit the annual SO2 emissions and include monitoring to support the hourly SO2 limits. The order also explains the reasons for denying NYPIRG's remaining claims.

NYPIRG raises each of the above seven issues in the petitions on Starrett City Power Plant and Elmhurst Hospital, as well. NYPIRG raises each of the above issues except the public hearing issue in the petitions on Maimonides Medical Center and Bergen Point Sewage Treatment Plant. Further, in the Starrett City and Maimonides petitions, NYPIRG raises an additional issue: the permit fails to include the applicable particulate matter limitation that is part of New York's State Implementation Plan. Finally, in the petition on Bergen Point, NYPIRG raises a new issue: the permit lacks federally enforceable conditions that govern the procedures for permit renewal. In each of these petitions, the issue on monitoring is subdivided into several detailed points, some of which are permit-specific and some of which are shared among the other permits.

II. Starrett City Power Plant

On January 3, 2001, the EPA received a petition from NYPIRG, requesting that EPA object to the issuance of the title V operating permit to Starrett City, on the grounds listed above. On December 16, 2002, the Administrator issued an order partially granting and partially denying the petition. The order explains the reasons behind EPA's conclusion that the NYSDEC must reopen the permit to: (1) Revise the permit's sulfur-in-fuel provisions to incorporate the applicable SIP citation; (2) add the requirement for annual tune-ups for the facility's four boilers; (3) add operational restrictions for the facility's three reciprocating engines; (4) add recordkeeping and operational limits based on the most recent stack test for the facility's three reciprocating engines; (5) add the requirement for annual tune-ups for the facility's three reciprocating engines; and (6) add the applicable SIP particulate matter limit and appropriate monitoring for the facility's four boilers and three reciprocating engines. The order also explains the reasons for denying NYPIRG's remaining claims.

III. Elmhurst Hospital

On October 10, 2000, the EPA received a petition from NYPIRG, requesting that EPA object to the issuance of the title V operating permit to Elmhurst Hospital on the grounds listed above. On December 16, 2002, the Administrator issued an order partially granting and partially denying the petition. The order explains the reasons behind EPA's conclusion that the NYSDEC must reopen the permit to add requirements for prompt reporting of temperature excursions at the ethylene oxide abatement system. The order also explains the reasons for denying NYPIRG's remaining claims.

IV. Maimonides Medical Center

On October 29, 2001, the EPA received a petition from NYPIRG, requesting that EPA object to the issuance of the title V operating permit to the Maimonides Medical Center on the grounds listed above. On December 16, 2002, the Administrator issued an order partially granting and partially denying the petition. The order explains the reasons behind EPA's conclusion that the NYSDEC must reopen the permit to: (1) Add the requirements for annual tune-ups for the facility's five boilers; (2) add the applicable SIP particulate matter limit and appropriate monitoring and recordkeeping; (3) move compliance requirements relating to the ethylene oxide control device from the State side to the federally enforceable side of the permit; (4) revise monitoring compliance requirements to express permissible emission rates in terms of those same units that are expressed in the SIP; (5) specify which of two proposed emission control scenarios, stated in the permit, is being retained for implementation regarding the ethylene oxide operation; (6) upgrade the existing monitoring relating to the ethylene oxide operation; and (7) add opacity monitoring requirements to the ethylene oxide operation. The order also explains the reasons for denying NYPIRG's remaining claims.

V. Bergen Point Sewage Treatment Plant

On October 15, 2001, the EPA received a petition from NYPIRG, requesting that EPA object to the issuance of the title V operating permit to Bergen Point on the grounds listed above. On December 16, 2002, the Administrator issued an order partially granting and partially denying the petition. The order explains the reasons behind EPA's conclusion that the NYSDEC must reopen the permit to: (1) Upgrade existing monitoring relating to stack testing and stack emissions; (2) include both particulate matter emission limits (State and Federal) as applicable requirements of the incinerators; (3) require permittee to keep a log of the incinerators' operating hours; (4) incorporate calibration methods and frequencies for monitoring devices; (5) specify a test method and appropriate recordkeeping for the sludge sampling activity; (6) incorporate the average scrubber pressure drop from the most recent performance test; and (7) specify QA/QC requirements with respect to the continuous opacity monitors. The order also explains the reasons for denying NYPIRG's remaining claims.

Dated: January 7, 2003.
Jane M. Kenny,
Regional Administrator, Region 2.

[FR Doc. 03-964 Filed 1-17-03; 8:45 am]

BILLING CODE 6560-50-P